DEPARTMENT OF TRANSPORTATION

Federal Aviation Administration

Aviation Rulemaking Advisory Committee—New Task

AGENCY: Federal Aviation Administration (FAA), DOT.

ACTION: Notice of new task assignment for the Aviation Rulemaking Advisory Committee (ARAC).

SUMMARY: The FAA assigned the Aviation Rulemaking Advisory Committee (ARAC) a new task to develop maintenance requirements for aircraft used in commercial air tour operations. This is in response to National Transportation Safety Board (NTSB) recommendations. This notice is to inform the public of the new ARAC activity and solicit membership to a new Commercial Air Tour Maintenance (CATM) Working Group to support ARAC on this new task.

FOR FURTHER INFORMATION CONTACT: Frank Wiederman, Air Carrier Maintenance Branch, AFS-330, Federal Aviation Administration, 950 L'Enfant Plaza, SW., 5th Floor, Washington, DC 20024; telephone (202) 385-6443, facsimile (202) 385-6474; e-mail frank.wiederman@faa.gov.

SUPPLEMENTARY INFORMATION:

Background

The FAA established ARAC to provide advice and recommendations to the FAA Administrator on the FAA's rulemaking activities with respect to aviation-related issues. This includes obtaining advice and recommendations on 14 CFR part 136—Commercial Air Tours and National Parks Air Tour Management.

In March 2007, a helicopter, operating under part 135 as an air tour flight, crashed while trying to land in Hawaii. Due to this crash, NTSB, on June 12, 2008, issued two safety recommendations to the FAA that identify the need for a maintenance quality assurance system and maintenance training for commercial air tour operations. The two safety recommendations are as follows:

1. A-08-32: Require that all air tour operators (14 CFR parts 91 and 135) establish and maintain a system for continuously analyzing the performance and effectiveness of their inspection and maintenance program to ensure that all maintenance is performed with the utmost regard for quality and safety.

2. A-08-33: Require air tour operators to provide formal, model specific helicopter maintenance training for their mechanics to ensure an adequate level of competency.

FAA's review of NTSB's safety recommendations further identifies the need for a required inspection program for all commercial air tour operations.

Current FAA regulations require that air carriers operating under parts 121 and 135 (with aircraft type certificated for a passenger seating configuration, excluding any pilot seat, of ten seats or more) for the purpose of conducting air tours are required to have a maintenance quality assurance system, a maintenance training program and a required inspection program. However, similar requirements do not exist for aircraft operated under parts 91 and 135 (with aircraft type certificated for a passenger seating configuration, excluding any pilot seat, of 9 or fewer seats). This task is intended to address these differences.

The objective of the Commercial Air Tour Maintenance (CATM) Working Group is to recommend a maintenance quality assurance system, a maintenance training program and a required inspection program for operators and air carriers that conduct air tours and operate under parts 91 and 135 (with aircraft type certificated for a passenger seating configuration, excluding any pilot seat, of 9 or fewer seats).

The Task

ARAC is tasked to develop recommendations for a maintenance quality assurance system, a maintenance training program and a required inspection program for operators and air carriers that conduct air tours and who operate under parts 91 and 135 (aircraft type certificated for a passenger seating configuration, excluding any pilot seat, of 9 or fewer seats).

ARAC will be supported by the CATM Working Group who will:

1. Review NTSB's June 12, 2008 letter to the FAA to understand the facts and analysis of the accident findings that lead to issuing safety recommendations A-08-32 and A-08-33. The letter is found at http://www.ntsb.gov/recs/letters/2008/A08_32_35.pdf. (Note: Included in NTSB's letter are safety recommendations A-08-34 and A-08-35. These are not part of this ARAC tasking.)

2. Review Advisory Circulars (AC) 120-79 and 120-16E for available guidance on developing and implementing a maintenance quality assurance system, maintenance training program and required inspection program. A copy of these ACs are at: http://www.airweb.faa.gov/Regulatory_and_Guidance_Library/rgAdvisoryCircular.nsf/0/c83d3e4ceb74e1df86256d1600587657/$FILE/AC120-79.pdf and http://www.airweb.faa.gov/Regulatory_and_Guidance_Library/rgAdvisoryCircular.nsf/0/d505ffc06aecc27e862574c6005480a2/$FILE/AC%20120-16E.pdf.

3. Develop a report containing recommendations for rulemaking and explain the reason and safety benefits for each recommendation and will present the findings at the next ARAC Executive Committee meeting.

If a Notice of Proposed Rulemaking (NPRM) is published for public comment as a result of the recommendations from this tasking, the FAA may ask ARAC to review the comments received and provide a recommended response to them.

Schedule: The tasks must be completed no later than 12 months after the first working group meeting.

ARAC Acceptance of Task

ARAC accepted the task and assigned the task to the CATM Working Group. The working group serves as staff to ARAC and assists in the analysis of assigned tasks. ARAC must review and approve the working group's recommendations. If ARAC accepts the working group's recommendations, it will send them to the FAA. The FAA will submit the recommendations it receives to the agency's Rulemaking Management Council to address the availability of resources and prioritization.

Working Group Activity

The Commercial Air Tour Maintenance (CATM) Working Group must comply with the procedures adopted by ARAC. As part of the procedures, the working group must:

1. Recommend a work plan for completion of the task, including the rationale supporting such a plan for consideration at the next ARAC Executive Committee meeting held following publication of this notice.

2. Give a detailed conceptual presentation of the proposed recommendations prior to proceeding with the work stated in item 3 below.

3. Draft the appropriate documents and required analyses and/or any other related materials or documents.

4. Provide a status report at each meeting of the ARAC Executive Committee.

Participation in the Working Group

The CATM Working Group will be composed of technical experts having an interest in the assigned task. A working group member need not be a representative or a member of the full committee.

If you have expertise in the subject matter and wish to become a member of the working group, write to the person listed under the caption FOR FURTHER INFORMATION CONTACT expressing that desire. Describe your interest in the task and state the expertise you would bring to the working group. We must receive all requests by September 14, 2009. The Executive Committee and the FAA will review the requests and advise you whether or not your request is approved.

If you are chosen for membership on the working group, you must represent your aviation community segment and actively participate in the working group by attending all meetings, and providing written comments when requested to do so. You must devote the resources necessary to support the working group in meeting any assigned deadlines. You must keep your management chain and those you may represent advised of working group activities and decisions to ensure the proposed technical solutions don't conflict with your sponsoring organization's position when the subject is presented to ARAC for approval. Once the working group has begun deliberations, members will not be added or substituted without the approval of the FAA and the working group chair.

The Secretary of Transportation determined the formation and use of ARAC is necessary and in the public interest in connection with the performance of duties imposed on the FAA by law.

Meetings of ARAC are open to the public. Meetings of the CATM Working Group will not be open to the public, except to the extent individuals with an interest and expertise are selected to participate. The FAA will make no public announcement of working group meetings.

Issued in Washington, DC, on July 10, 2009.
Pamela Hamilton-Powell,
Executive Director, Aviation Rulemaking Advisory Committee.

[FR Doc. E9-16788 Filed 7-14-09; 8:45 am]

BILLING CODE 4910-13-P